DEPARTMENT OF HOMELAND SECURITY

Office of the Secretary

[Docket No. FLETC-2006-0002]

Notice of Meeting of the Advisory Committee to the Office of State and Local Training

AGENCY: Federal Law Enforcement Training Center, DHS.

ACTION: Meeting.

SUMMARY: The Advisory Committee to the Office of State and Local Training will conduct an open meeting at the Embassy Suites, 500 Mall Boulevard, Brunswick, GA.

DATES: May 3, 2006, beginning at 8 a.m.

ADDRESSES: If you desire to submit comments, they must be submitted within 10 days after publishing of Notice. Comments must be identified by FLETC-2006-0002 and may be submitted by one of the following methods:

• Federal eRulemaking Portal: http://www.regulations.gov. Follow the instructions for submitting comments.

• E-mail: reba.fischer@dhs.gov. Include docket number in the subject line of the message.

• Fax: (912) 267-3531. (Not a toll-free number.)

• Mail: Reba Fischer, Federal Law Enforcement Training Center, Department of Homeland Security, 1131 Chapel Crossing Road, Townhouse 396, Glynco, GA 31524.

Instructions: All submissions received must include the agency name and docket number for this rulemaking. All comments received will be posted without change to http://www.regulations.gov, including any personal information provided.

Docket: For access to the docket to read background documents or comments received, go to http://www.regulations.gov.

FOR FURTHER INFORMATION CONTACT: Reba Fischer, Designated Federal Officer, 912-267-2343, reba.fischer@dhs.gov.

SUPPLEMENTARY INFORMATION: Notice of this meeting is given under the Federal Advisory Committee Act, 5 U.S.C. App. 1 et seq. The agenda for this meeting includes briefings from FLETC staff on training, new initiatives, and discussion on strategic goals and training needs of state, local, campus, and tribal law enforcement officers. This meeting is open to the public.

Information on Services for Individuals with Disabilities: For information on facilities or services for individuals with disabilities or to request special assistance at the meeting, contact Ms. Reba Fischer (contact information above) as soon as possible.

Stanley Moran,
Deputy Assistant Director, Office of State and Local Law Enforcement Training.

[FR Doc. E6-5712 Filed 4-17-06; 8:45 am]

BILLING CODE 4810-32-P